DEPARTMENT OF TRANSPORTATION

Office of the Secretary

Aviation Proceedings, Agreements Filed the Week Ending November 14, 2003

The following Agreements were filed with the Department of Transportation under the provisions of 49 U.S.C. Sections 412 and 414. Answers may be filed within 21 days after the filing of the application.

Docket Number: OST-2003-16525.

Date Filed: November 13, 2003.

Parties: Members of the International Air Transport Association.

Subject:

PAC/Reso/421 dated August 12, 2003.

Finally Adopted Resolutions r1-r42.

Minutes—PAC/Meet/179 dated August 12, 2003.

Intended effective date: January 1, 2004.

Andrea M. Jenkins,
Program Manager, Docket Operations, Federal Register Liaison.

[FR Doc. 03-29649 Filed 11-26-03; 8:45 am]

BILLING CODE 4910-62-P